DEPARTMENT OF COMMERCE

International Trade Administration

Environmental Technologies Trade Advisory Committee (ETTAC)

AGENCY: International Trade Administration, U.S. Department of Commerce.

ACTION: Notice of open meeting.

Date: May 20, 2005.

Time: 9 a.m. to 3 p.m.

Place: MWH Global, 175 W. Jackson Blvd., Suite 1900, Chicago, IL.

SUMMARY: The Environmental Technologies Trade Advisory Committee (ETTAC) will hold a plenary meeting on May 20, 2005, at the MWH Global. The ETTAC will discuss Trade Liberalization of Environmental Goods and Services in the World Trade Organization and the results of the ETTAC Survey on Priority Markets. The afternoon session will include a discussion of the Environmental Law and Policy Center's work with Renewable Energy Sources. The meeting is open to the public and time will be permitted for public comment.

Written comments concerning ETTAC affairs are welcome anytime before or after the meeting.

Minutes will be available within 30 days of this meeting.

The ETTAC is mandated by Public Law 103-392. It was created to advise the U.S. government on environmental trade policies and programs, and to help it to focus its resources on increasing the exports of the U.S. environmental industry. ETTAC operates as an advisory committee to the Secretary of Commerce and the Trade Promotion Coordinating Committee (TPCC). ETTAC was originally chartered in May of 1994. It was most recently rechartered until May 30, 2006.

For further information phone Joseph Ayoub, Office of Environmental Technologies Industries (ETI), International Trade Administration, U.S. Department of Commerce at (202) 482-0313 or 5225. This meeting is physically accessible to people with disabilities. Requests for sign language interpretation or other auxiliary aids should be directed to OEEI at (202) 482-5225.

Carlos F. Montoulieu,
Office of Energy and Environmental Industries.

[FR Doc. E5-2464 Filed 5-16-05; 8:45 am]

BILLING CODE 3510-DR-P